DEPARTMENT OF DEFENSE

Department of the Navy

Meeting of the Naval Research Advisory Committee

AGENCY: Department of the Navy, DOD.

ACTION: Notice of closed meeting.

SUMMARY: The Naval Research Advisory Committee (NRAC) Panel on Technology for Base Security will meet to review basic and advanced research and associated science and technology opportunities with respect to the following anti-terrorism/force protection (AT/FP) issues: access control, automation, intrusion detection systems, consolidation of manpower, threat detection, counter-surveillance, situational awareness, and deterrence. From these discussions and review, the Panel will recommend appropriate naval science and technology investments both near and far term, to enhance base security. All sessions of the meeting will be closed to the public.

DATES: The meetings will be held on Tuesday, August 13, 2002, from 1 p.m. to 5:30 p.m.; Wednesday, August 14, 2002, from 8:30 a.m. to 5:30 p.m.; and Thursday, August 15, 2002, from 8:30 a.m. to 12:30 p.m.

ADDRESSES: The meetings will be held at the Office of Naval Research, 800 North Quincy Street, Arlington, Virginia.

FOR FURTHER INFORMATION CONTACT: Dennis Ryan, Program Director, Naval Research Advisory Committee, 800 North Quincy Street, Arlington, VA 22217-5660, (703) 696-6769.

SUPPLEMENTARY INFORMATION: This notice of a closed meeting is provided in accordance with the provisions of the Federal Advisory Committee Act (5 U.S.C. App. 2). All sessions of the meeting will be devoted to discussions of basic and advanced research and associated science and technology opportunities with respect to the following anti-terrorism/force protection (AT/FP) issues: access control, automation, intrusion detection systems, consolidation of manpower, threat detection, counter-surveillance, situational awareness, and deterrence. These discussions will contain classified information that is specifically authorized under criteria established by Executive Order to be kept secret in the interest of national defense and are in fact properly classified pursuant to such Executive Order. The classified and non-classified matters to be discussed are so inextricably intertwined as to preclude opening any portion of the meeting. In accordance with 5 U.S.C. App. 2, section 10(d), the Under Secretary of the Navy has determined in writing that the public interest requires that all sessions of the meeting be closed to the public because they will be concerned with matters listed in 5 U.S.C. section 552b(c)(1). Due to an unavoidable delay in administrative processing, the 15-day advance notice could not be provided.

Dated: July 30, 2002.
R.E. Vincent, II,
Lieutenant Commander, Judge Advocate General's Corps, , U.S. Navy, Federal Register Liaison Officer.

[FR Doc. 02-19619 Filed 8-1-02; 8:45 am]

BILLING CODE 3810-FF-P